DEPARTMENT OF JUSTICE

[AAG/A Order No. 287-2002]

Privacy Act of 1974; System of Records

Pursuant to the provisions of the Privacy Act of 1974 (5 U.S.C. 552a), notice is given that the Department of Justice proposes to establish a new Department-wide system of records entitled “Personnel Investigation and Security Clearance Records for the Department of Justice” DOJ-006, which generally covers the described records maintained by all components other than the Federal Bureau of Investigation (FBI). The Justice Management Division's (JMD's) system of records for background investigation records, “Security Clearance Information System,” JMD-008, was previously published in the Federal Register at 55 FR 34629, dated Thursday, August 23, 1990. JMD maintains the personnel investigation and clearance records of certain categories of individuals, while the records of other categories of individuals are maintained by individual Bureaus and some other components. This notice of a new system of records replaces JMD's notice, and it also provides notice for components to the extent that they maintain records that are not covered by an existing system notice. For example, some components' personnel investigation and clearance records are covered by Office of Personnel Management (OPM)/Central-9 to the extent that the components maintain only a copy of what OPM maintains; however, to the extent that such components may also maintain additional personnel investigation and clearance records, as described in this notice, those records and any new compilation of the file are covered by this system notice. Disclosure determinations regarding any investigative records from an OPM or FBI investigation will be made only in accordance with the investigating agency's disclosure policies.

The purpose of publishing this Department-wide notice is to update and clarify what records are maintained by the Department, including the addition of certain categories of individuals and categories of records, and to increase administrative efficiency by publishing a centralized notice, while providing the public with a relatively simple procedure for requesting access to such information. This system notice does not supersede systems of records covered by separately-noticed systems, except for JMD-008 and Subsystem 0 of INS-001.

Accordingly, this Department-wide system notice replaces, and the Department hereby removes, on the effective date of this notice, the following:

Justice Management Division, “Security Clearance Information System (SCIS),” Justice/JMD-008 (55 FR 34629, Aug. 23, 1990) Immigration and Naturalization Service, “Security Access Clearance Index,” Justice/INS-001, Subsystem O only. INS-001 was last published at 58 FR 51847, October 5, 1993.

In accordance with 5 U.S.C. 552a(e)(4) and (11), the public is given a 30-day period in which to comment; and the Office of Management and Budget (OMB), which has oversight responsibility under the Act, requires a 40-day period in which to conclude its review of the system. Therefore, please submit any comments by October 24, 2002. The public, OMB, and the Congress are invited to submit any comments to Mary E. Cahill, Management and Planning Staff, Justice Management Division, Department of Justice, Washington, DC 20530 (Room 1400, National Place Building).

In accordance with 5 U.S.C. 552a(r), the Department has provided a report to OMB and the Congress.

Dated: September 12, 2002.
Robert F. Diegelman,
Acting Assistant Attorney General for Administration.

Department of Justice—006

System Name:

Personnel Investigation and Security Clearance Records for the Department of Justice, DOJ-006.

System Location:

U.S. Department of Justice, 950 Pennsylvania Avenue, NW, Washington, DC 20530, other Department of Justice Component locations (see system manager listings). Working copies of records may reside temporarily at locations operated by contractors authorized to provide computer services and other agency functions related to this system of records.

Categories of Individuals Covered by the System:

Current and former employees of the Department, including but not limited to full and part time employees, interns, detailees, volunteers, and task force personnel;

Current and former contractor employees and prospective contractor employees, for whom an investigation is initiated and/or conducted; Current and former Congressional staff personnel, Executive Office of National Security personnel, Office of Independent Counsel personnel, Special Counsel personnel, Foreign Intelligence Surveillance Act judges and staff, Presidential Transition personnel, and other individuals employed by or performing services for the Federal Government who require background investigations;

Any or all persons associated with and/or acting for the defense or for the courts in a criminal proceeding involving classified information and any Department component;

Applicants for paid or unpaid employment with the Department for whom an investigation is initiated and/or conducted; and

Individuals who have been investigated for purposes of determining eligibility for access to sensitive or national security information.

Categories of Records in the System:

Identifying information regarding the individuals in the Categories of Individuals above, including one or more of the following: (1) Standard Form 86 “Questionnaire for National Security Position,” Standard Form 85P “Questionnaire for Public Trust Positions,” Standard Form 85P-S “Supplemental Questionnaire for Selected Positions,” and/or Standard Form 85 “Questionnaire for Non-Sensitive Positions” and predecessor and successor forms of the same type; (2) Copies of investigative reports from the Office of Personnel Management, the Federal Bureau of Investigation (FBI), and/or other Federal investigative agencies; (3) Correspondence, information, and other supporting documentation related to the investigation and adjudication for public trust and national security information positions (references in this notice to classified and national security information include Sensitive Compartmented Information); (4) Form DOJ-555 “Disclosure and Authorization Pertaining to Consumer Reports Pursuant to the Fair Credit Reporting Act” and other consent or waiver forms, and the results of credit checks; (5) Waivers of the pre-employment background investigation requirement; (6) Records of security clearance certifications; (7) Other information relating to the loyalty or trustworthiness of the individual, or relevant to the individual's eligibility for access to national security information; and (8) Records reviewed by the Access Review Committee (ARC) and generated in connection with the ARC appeals procedure (Executive Order 12968, Section 5.2.(a)(7)).

Authority for Maintenance of the System:

Presidential Executive Orders 10450, “Security Requirements for Government Employment” and 12968, “Access to Classified Information,” and the Classified Information Procedures Act of 1980.

Purpose(s):

Records in this system are used to determine the loyalty, trustworthiness, suitability, eligibility and/or qualifications of employees for initial or continued employment in the Department of Justice, and for employment in sensitive positions involving eligibility and continued eligibility for access to classified information. The records are also used to make similar suitability and security determinations regarding the employment of contractors to perform a service for the Department and to establish the trustworthiness for access to classified information of persons associated with and/or acting for the court or the defense during criminal proceedings, or in other specified cases where individuals employed by or performing services for the Federal Government require background investigations, including during Presidential transitions. Records in this system are also used by the Access Review Committee when an appeal is made to the ARC to review a security clearance denial or revocation pursuant to E.O. 12968. Records in this system are also used to track the status and types of investigations, the dates of clearances and level of clearances.

Routine Uses of Records Maintained in the System, Including Categories of Users and the Purposes of Such Uses:

Disclosure determinations regarding any investigative records from an OPM or Federal Bureau of Investigation (FBI) investigation will be made only in accordance with the investigating agency's disclosure policies.

Records or information in this system of records may be disclosed to the following parties when it has been determined by the Department of Justice that such a need exists:

(a) Designated officers and employees of agencies, offices, and other establishments in the executive, legislative, and judicial branches of the Federal Government, in connection with the hiring or continued employment of an employee or contractor, the conduct of a suitability or security investigation of an employee or contractor, or the grant, renewal, suspension, or revocation of a security clearance, to the extent that the information is relevant and necessary to the hiring agency's decision.

(b) Designated officers and employees of state or local (including the District of Columbia) law enforcement or detention agencies in connection with the hiring or continued employment of an employee or contractor, where the employee or contractor would occupy or occupies a position of public trust as a law enforcement officer or detention officer having direct contact with the public or with prisoners or detainees, to the extent that the information is relevant and necessary to the recipient agency's decision.

(c) Members of a Presidential Transition Team for evaluating potential appointees.

(d) Security officials and investigators of Federal Government Agencies or Departments for liaison or training purposes where appropriate during meetings, conferences, or training courses involving access to classified material.

(e) Federal, state, local, or private entities where appropriate for purposes of certification of security clearances of participants in training, conferences, meetings, facility visits, and similar activities.

(f) In an appropriate proceeding before a court or administrative or regulatory body when records are determined by the Department of Justice to be arguably relevant to the proceeding.

(g) The intelligence agencies of the Department of Defense, the National Security Agency, and the Central Intelligence Agency for use in intelligence activities.

(h) In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

(i) An employee's designated representative in connection with the ARC appeals process.

(j) The news media and the public pursuant to 28 CFR 50.2 unless it is determined that release of the specific information in the context of a particular case would constitute an unwarranted invasion of personal privacy.

(k) A Member of Congress or staff acting upon the Member's behalf when the Member or staff requests the information on behalf of and at the request of the individual who is the subject of the record.

(l) The National Archives and Records Administration and the General Services Administration in records management inspections conducted under the authority of 44 U.S.C. 2904 and 2906.

(m) Contractors, grantees, experts, consultants, students, and others performing or working on a contract, service, grant, cooperative agreement, or other assignment for the Federal government, when necessary to accomplish an agency function related to this system of records.

(n) Former employees of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(o) An actual or potential party to litigation or the party's authorized representative for the purpose of negotiation or discussion on such matters as settlement, plea bargaining, or in informal discovery proceedings.

(p) Federal, state, and local licensing agencies or associations which require information concerning the suitability or eligibility of an individual for a license or permit.

(q) Such recipients and under such circumstances and procedures as are mandated by federal statute or treaty.

Policies and Practices for Storing, Retrieving, Accessing, Retaining, and Disposing of Records in the System:

Storage:

Data is stored in electronic media via a configuration of personal computer, client/server, and mainframe systems architecture. Computerized records are maintained on hard disk, floppy diskettes, compact discs, magnetic tape, and/or optical disks. Paper files are stored as follows: (1) In a secure file room with controlled access; (2) locked file cabinets; and/or (3) other appropriate GSA approved security containers.

Retrievability:

Data is retrieved by searching under the individual's name, social security account number, or other identifier.

Safeguards:

Security measures include the use of safes, locked file cabinets, and/or restricted access space for manual records. Electronic records are safeguarded in accordance with DOJ rules and policy governing automated systems security and access. These safeguards include the maintenance of technical equipment in restricted areas, and the required use of individual passwords and user identification codes to access the system.

Retention and Disposal:

Records are retained and disposed of in accordance with items 22, 23, 24, and 25 of the General Records Schedule 18 as approved by the Archivist of the United States. Some records (such as Presidential Transition records) are retained only temporarily and then transferred to the appropriate agency.

System Managers and Addresses:

For records regarding former and current personnel and contractors employed by the Offices, Boards, or Divisions (OBDs) as well as records regarding all Department attorneys, interns, honor program applicants, Schedule C personnel, non-career SES appointments, Presidential appointees, non-Departmental Federal Government personnel, and ARC appeals for OBDs, contact: Director, Security and Emergency Planning Staff, Attention: Associate Director Personnel Security Group, Justice Management Division, U.S. Department of Justice, 950 Pennsylvania Avenue, NW., Washington, DC 20530.

For records regarding former and current Bureau non-attorney personnel not specifically listed above and contractors, contact the individual Bureaus:

Security Programs Manager, Drug Enforcement Administration (DEA), 700 Army Navy Drive, Arlington, VA 22202.

Security Programs Manager, Federal Bureau of Prisons (BOP), 320 First Street, NW., Washington, DC 20543.

Security Programs Manager, Immigration and Naturalization Service (INS), 425 I Street, NW., Washington, DC 20536.

Security Programs Manager, Federal Bureau of Investigation (FBI), 935 Pennsylvania Avenue, NW., Washington, DC 20535.

Security Programs Manager, U.S. Marshals Service (USMS), 600 Army Navy Drive, Arlington, VA 22202.

Security Programs Manager, Executive Office for U.S. Trustees (EOUST), 901 E Street, NW., Washington, DC 20530.

Security Programs Manager, National Drug Intelligence Center (NDIC), 319 Washington Street, Johnstown, PA 15901.

Notification Procedures:

Address inquiries to System Manager named above.

Record Access Procedures:

A request for access to a record from this system shall be made in writing to the System Manager, or in the case of BOP and INS records, to the FOIA/PA Section, with the envelope and the letter clearly marked “Privacy Access Request.” The request should include a general description of the records sought and must include the requester's full name, current address, and date and place of birth. The request must be signed and either notarized or submitted under penalty of perjury. Some information may be exempt from access provisions as described in the section entitled “Systems Exempted from Certain Provisions of the Act.” An individual who is the subject of a record in this system may access those records that are not exempt from disclosure. A determination whether a record may be accessed will be made at the time a request is received.

Requests for copies of the investigative report should be directed to the appropriate investigative agency: the Office of Personnel Management at 1900 E St., NW., Room 5416, Washington, DC 20415; the Federal Bureau of Investigation at the address above, or other investigative agency.

Contesting Record Procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Systems Exempted from Certain Provisions of the Act.” An individual who is the subject of a record in this system may amend those records that are not exempt. A determination whether a record may be amended will be made at the time a request is received.

Record Source Categories:

Sources of information contained in this system are the individuals covered by the system, individuals and entities contacted by investigators, adjudicators, or other authorized personnel regarding individuals covered by the system, government records, and consumer reporting agencies.

System Exempted from Certain Provisions of the Act:

The Attorney General has exempted this system from 5 U.S.C. 552a(c)(3) and (4); (d)(1), (2), (3), and (4); (e)(1), (2), (3), (5) and (8); and (g). The exemptions will be applied only to the extent that information in a record is subject to exemption pursuant to 5 U.S.C. 552a(j) and (k). A determination as to exemption shall be made at the time a request for access or amendment is received. Rules have been promulgated in accordance with the requirements of 5 U.S.C. 553(b), (c) and (e) and have been published in the Federal Register.

[FR Doc. 02-24206 Filed 9-23-02; 8:45 am]

BILLING CODE 4410-FB-P